DEPARTMENT OF HEALTH AND HUMAN SERVICES

[Document Identifier: OS-0990-0324]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 27, 2023.

ADDRESSES: Submit your comments to Sherrette.Funn@hhs.gov or by calling (202) 264-0041 and PRA@HHS.GOV.

FOR FURTHER INFORMATION CONTACT: When submitting comments or requesting information, please include the document identifier 0990-0324-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Report of Dental Examination of Applicants to the Public Health Service Commissioned Corps.

Type of Collection: Reinstatement without change.

OMB No.: 0990-0324.

Abstract: Pursuant to the Paperwork Reduction Act of 1995, the Commissioned Corps Headquarters (CCHQ), Office of the Secretary, Department of Health and Human Services (HHS), requests that the Office of Management and Budget (OMB) renew the form PHS-6355 Report of Dental Examination of Applicants to the Commissioned Corps of the Public Health Service for use in determining the medical qualifications of applicants to the Commissioned Corps of the U.S. Public Health Service (Corps). Applicants to the Corps must meet the Corps' medical standards for appointment.

This is a 3-year request for OMB approval.

Likely Respondents: U.S. citizens applying to the United States Public Health Service.

Annualized Burden Hour Table
Forms (if necessary) | Respondents (if necessary) | Number of respondents | Number of responses per respondents | Average burden per response | Total burden hours
PHS-6355 | Applicants | 1,000 | 1 | 1 | 1,000
Total |  |  |  |  | 1,000

Sherrette A. Funn,
Paperwork Reduction Act Reports Clearance Officer, Office of the Secretary.

[FR Doc. 2023-21098 Filed 9-26-23; 8:45 am]

BILLING CODE 4150-49-P